DEPARTMENT OF COMMERCE

National Oceanic and Atmospheric Administration

[RTID 0648-XA256]

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a public meeting of the Council.

DATES: The meeting will be held Thursday, July 16, 2020, from 9 a.m. to 4 p.m. For agenda details, see SUPPLEMENTARY INFORMATION.

ADDRESSES: Due to public health concerns related to the spread of COVID-19 (coronavirus), the Mid-Atlantic Fishery Management Council's July meeting will be conducted by webinar only. Please see the Council's website (www.mafmc.org) for log-in procedures.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the proposed agenda, webinar connection, and briefing materials.

SUPPLEMENTARY INFORMATION:

Agenda: Thursday, July 16, 2020

The Mid-Atlantic Fishery Management Council will meet via webinar on July 16, 2020 to review alternatives, related analyses, Committee recommendations, and take final action on the Mackerel, Squid, Butterfish FMP Goals/Objectives, and Illex Permits Amendment. Details and briefing materials will be posted to https://www.mafmc.org/briefing/july-2020.

Special Accommodations

The meeting is physically accessible to people with disabilities. Requests for sign language interpretation or other auxiliary aid should be directed to M. Jan Saunders, (302) 526-5251, at least 5 days prior to the meeting date.

(Authority: 16 U.S.C.1801 et seq.)

Dated: June 29, 2020.
Rey Israel Marquez,
Acting Deputy Director,Office of Sustainable Fisheries,National Marine Fisheries Service.

[FR Doc. 2020-14307 Filed 7-1-20; 8:45 am]

BILLING CODE 3510-22-P